DEPARTMENT OF LABOR

Mine Safety and Health Administration

Proposed Information Collection Request Submitted for Public Comment and Recommendations; Fire Protection (Underground Coal Mines)

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before May 26, 2000.

ADDRESSES: Send comments to Theresa M. O'Malley, Program Analysis Officer, Office of Program Evaluation and Information Resources, 4015 Wilson Boulevard, Room 715, Arlington, VA 22203-1984. Commenters are encouraged to send their comments on a computer disk, or via Internet E-mail to tomalley@msha.gov, along with an original printed copy. Ms. O'Malley can be reached at (703) 235-1470 (voice), or (703) 235-1563 (facsimile).

FOR FURTHER INFORMATION CONTACT: Theresa M. O'Malley, Program Analysis Officer, Office of Program Evaluation and Information Resources, U.S. Department of Labor, Mine Safety and Health Administration, Room 719, 4015 Wilson Boulevard, Arlington, VA 22203-1984. Ms. O'Malley can be reached at tomalley@msha.gov (Internet E-mail), (703) 235-1470 (voice), or (703) 235-1563 (facsimile).

SUPPLEMENTARY INFORMATION:

I. Background

Subpart L of 30 CFR part 75, establishes minimum fire protection requirements for underground coal mines. This subpart contains provisions requiring that a program for the instruction of miners in fire fighting and evacuation procedures be adopted by the mine operator and approved by the MSHA district manager. Subpart L also contains provisions requiring fire extinguishers to be examined every 6 months, fire drills to be conducted every 90 days, automatic fire sensor and warning device systems to be examined weekly and tested annually, and fire hydrants and hose to be tested at least once a year. These provisions also require that the mine operator maintain a record or certification that the fire drills and examinations and tests are conducted.

II. Desired Focus of Comments

Currently, the Mine Safety and Health Administration (MSHA) is soliciting comments concerning the proposed extension of the information collection related to the Fire Protection (Underground Coal Mines). MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and then choosing “Statutory and Regulatory Information” and “Paperwork Reduction Act Submissions (http://www.msha.gov/regspwork.htm)”, or by contacting the employee listed above in the FOR FURTHER INFORMATION CONTACT section of this notice for a hard copy.

III. Current Actions

MSHA believes that the requirement for distinct fire fighting and evacuation programs for coal mines promotes the objectives of the Federal Mine Safety and Health Act of 1977 by ensuring that miners are able to safely evacuate a mine in the event of a fire and that fires are extinguished as soon as possible. MSHA uses the programs and the fire drill and fire fighting equipment certifications to determine whether a mine operator has adequate procedures and equipment to protect miners in the event of a fire.

Type of Review: Extension.

Agency: Mine Safety and Health Administration.

Title: Fire Protection (Underground Coal Mines)

OMB Number: 1219-0054.

Affected Public: Business or other for-profit institutions.

Cite/reference | Total respondents | Frequency | Total responses | Average time per response (hours) | Burden hours*
75.1100-3 | 1,424 | Semi-annually | 56,960 | 2 minutes | 1,899
33975.1101-23(a) | 339 | On occasion | 339 | 30 minutes | 170
75.1101-23(c) | 1,424 | Quarterly | 17,088 | 30 minutes | 8,544
75.1103-8 | 685 | Weekly | 178,100 | 25 minutes | 41,558
75.1103-8 (Test) | 685 | Annually | 2,740 | 15 minutes | 685
75.1103-11 | 685 | Annually | 41,100 | 30 minutes | 20,550
Total |  |  | 296,327 | 15 minutes | 73,406
*Discrepancies due to rounding.

Total Burden Cost (capital/startup) $0.

Total Burden Cost (operating/maintaining: $1,695.

Comments submitted in response to this notice will be summarized and/or included in the request for Office of Management and Budget approval of the information collection request; they will also become a matter of public record.

Dated: March 21, 2000.
Theresa M. O'Malley,
Program Analysis Officer, Program Evaluation and Information Resources.

[FR Doc. 00-7473 Filed 3-24-00; 8:45 am]

BILLING CODE 4510-43-M